GENERAL SERVICES ADMINISTRATION

41 CFR Part 302-3

[FTR Amdt. 108; Correction]

Federal Travel Regulation; Corrections and Additions; Correction

AGENCY: Office of Governmentwide Policy, GSA.

ACTION: Final rule; correction.

SUMMARY: This is to correct the final rule published in the Federal Register at 67 FR 57963, September 13, 2002, by changing an entry and reference that was inadvertently revised.

EFFECTIVE DATE: October 24, 2002.

FOR FURTHER INFORMATION CONTACT: Ms. Laurie Duarte at (202) 501-4755, General Services Administration, Regulatory Secretariat, Washington, DC 20405.

Correction

In final rule document 02-22414 beginning on page 57963 in the issue of September 13, 2002, make the following correction:

§ 302-3.101 [Corrected]

On page 57969, in the first column below the table, correct amendatory instruction 58 to read as follows:

58. Amend § 302-3.101 by removing from Table A, column 2, entry 4, “Use of relocation service companies (part 302-12 of this chapter)” and adding “Use of a relocation services company (part 302-12 of this chapter).” in its place; and amending Table B, column 2, entry 5, by removing “302-15” and adding “301.15” in its place.

Dated: October 15, 2002.
Rodney Lantier,
Director, Regulatory and Federal Assistance Publications Division.

[FR Doc. 02-26842 Filed 10-23-02; 8:45 am]

BILLING CODE 6820-14-P